DEPARTMENT OF DEFENSE

Office of the Secretary

Defense Science Board

AGENCY: Department of Defense.

ACTION: Notice of Advisory Committee Meeting.

SUMMARY: The Defense Science Board Task Force on Roles and Authorities of the Director of Defense Research and Engineering will meet in open session on February 24, 2005; March 14, 2005; April 18, 2005; May 16, 2005; and June 8, 2005, at SAI, 3601 Wilson Boulevard. The Task Force will examine the past and current roles and authorities for the Director of Defense Research and Engineering (DDR&E).

The mission of the Defense Science Board is to advise the Secretary of Defense and the Under Secretary of Defense for Acquisition, Technology & Logistics on scientific and technical matters as they affect the perceived needs of the Department of Defense. At these meetings, the Task Force will review and evaluate concepts to determine appropriate future roles and authorities of the DDR&E including an analysis of the relationship of the Director to other senior science and technology (S&T) and acquisition officials of the military departments and the Defense Agencies; the relationship of the Director to the performance of the following functions: planning, programming, and budgeting of the S&T programs of the DoD; management of DoD laboratories and technical centers; promotion of the rapid transition of technologies to acquisition programs within the DoD; promotion of the transfer of technologies into and from the commercial sector; the coordination of DoD S&T activities with organizations outside the DoD; technical review of DoD acquisition programs and policies; training and education activities for the national scientific and technical workforce; development of science and technology policies and programs relating to the maintenance of the national technology and industrial base; and the development of new technologies in support of the transformation of the Armed Forces. The Task Force will also examine the duties of the Director as the Chief Technology Office of the DoD.

FOR FURTHER INFORMATION CONTACT: CDR David Waugh, USN, Defense Science Board, 3140 Defense Pentagon, Room 3D865, Washington, DC 20301-3140, via e-mail at david.waugh@osd.mil, or via phone at (703) 695-4158.

SUPPLEMENTARY INFORMATION: Members of the public who wish to attend the meeting must contract CDR Waugh no later then February 14, 2005; February 28, 2005; April 4, 2005; May 2, 2005; and May 23, 2005, for further information about admission as seating is limited. Additionally, those who wish to make oral comments or delvier written comments should also request to be scheduled, and submit a written text of the comments by February 18, 2005; March 7, 2005; April 11, 2005; May 9, 2005; and May 30, 2005, to allow time for distribution to Task Force members prior to the meeting.

Individual oral comments will be limited to five minutes, with the total oral comment period not exceeding 30 minutes.

Dated: February 18, 2005.
Jeannette Owings-Ballard,
OSD Federal Register Liaison Officer, Department of Defense.

[FR Doc. 05-3658 Filed 2-24-05; 8:45 am]

BILLING CODE 5001-06-M